DEPARTMENT OF TRANSPORTATION

Federal Transit Administration

Preparation of An Environmental Impact Statement on a Transit Connection Between the 2100 South Light Rail Station and the Cities of West Valley City and Taylorsville in Metropolitan Salt Lake City, UT

AGENCY: Federal Transit Administration, DOT.

ACTION: Notice of intent to prepare an Environmental Impact Statement.

SUMMARY: The Federal Transit Administration (FTA), in cooperation with the Wasatch Front Regional Council (WFRC) and Utah Transit Authority (UTA), is issuing this notice to advise interested agencies and the public that, in accordance with the National Environmental Policy Act (NEPA), an Environmental Impact Statement (EIS) will be prepared for a transit connection westward from the North-South Light Rail line to a logical terminus near the West Valley City center. Possible extensions or other transit improvements extending southward to the city of Taylorsville will also be evaluated. This proposed transportation project was identified in a Type I Major Investment Study (MIS) completed in March 2000. In addition to the rail transit alternatives from the “Transit Corridors Analysis,” the No-Build Alternative and any new alternatives generated through the scoping process will be evaluated. Scoping will be accomplished through coordination with interested persons, organizations, and federal, state, and local agencies. FTA is serving as the federal lead agency for the project in anticipation of a grant application from UTA for its construction. Based on the results of the scoping process, FTA will establish the scope of the environmental review under NEPA, including the identification of environmental issues and effects to be addressed and the reasonable alternatives to be retained for detailed evaluation.

DATES: Interagency and public scoping and information meetings will be held on the following dates at the locations indicated:

Interagency Scoping Meeting: Wednesday, January 9th, 2002 from 10 a.m. to noon, at the Wasatch Front Regional Council, 295 North Jimmy Doolittle Road, Salt Lake City, UT 84116.

Public Scoping Meeting No. 1: Wednesday, January 9, 2002 from 5 p.m. to 8 p.m. at the Utah Transit Authority Board Room, located at 3600 South 700 West, Salt Lake City, UT 84119-0810.

Public Scoping Meeting No. 2: Saturday, January 12, 2002 from 9 a.m. to 11 a.m. at the West Valley City Hall located at 3600 South Constitution Blvd., West Valley City, UT 84119-3720.

Written comments on the scope of the environmental study should be sent by January 28, 2002, to Barry Banks, Project Manager, Wasatch Front Regional Council, 295 North Jimmy Doolittle Road, Salt Lake City, UT 84116.

ADDRESSES: The addresses where scoping meetings will be held and where comments on the scope of the study may be sent, appear above in the DATES section. A Scoping Booklet is available from Barry Banks, Project Manager, Wasatch Front Regional Council, 295 North Jimmy Doolittle Road, Salt Lake City, UT 84116 or by calling the project information line at (801) 904-4127.

FOR FURTHER INFORMATION CONTACT: Don Cover, Federal Transit Administration, 216 16th Street, Suite 650, Denver, Colorado 80202; telephone (303) 844-3242.

SUPPLEMENTARY INFORMATION:

I. Scoping

The WFRC and UTA will hold interagency and public scoping meetings as presented in the DATES section above. At these meetings, WFRC and UTA will present the results of the “Type 1 MIS” and the alternatives proposed for detailed evaluation in the EIS. At the public meetings, interested persons will have an opportunity to speak individually with a WFRC or UTA representative. In addition, a WFRC or UTA person will be available to receive written and record verbal comments on the scope of the NEPA review. All scoping meeting locations are accessible to persons with disabilities. Individuals who require special accommodations, such as a sign language interpreter, to participate in the meeting should contact Ms. Sherry L. Repscher, ADA Compliance Officer, Utah Transit Authority, 3600 South 700 West, Salt Lake City, UT 84119-0810 or by telephone at (801) 262-5626 or TDD at (801) 287-4657. Interested individuals, organizations, and public agencies are invited to attend the scoping meetings and participate in identifying any important environmental impact issues related to the proposed alternatives and suggesting alternatives which would be more economical or would have less environmental impact while achieving similar transportation objectives. An information packet, referred to as the Scoping Booklet, will be distributed to all public agencies and interested individuals and will be available at the meetings. Others may request the Scoping Booklet by contacting Barry Banks at the address listed above in ADDRESSES. Anyone wishing to be placed on the project mailing list to receive meeting notices and further information as the project develops should also contact Barry Banks at the address listed in ADDRESSES or call the project information line (801) 904-4127. Comments during the scoping period should focus on identifying the social, economic, and environmental concerns associated with the proposed action, and alternatives that deserve consideration, and not on a preference for a particular alternative. Comments regarding preference for a particular alternative may be submitted during subsequent public meetings or at a hearing on the Draft Environmental Impact Statement, when it is published. Scoping comments may be made at the scoping meetings or may be directed in writing to Barry Banks, Project Manager, at the address given in ADDRESSES.

II. Description of the Project Area and Transportation Need

The UTA North-South TRAX system that now includes the extension from the Salt Lake City Central Business District (CBD) to the University of Utah provides the spine for an expanded Light Rail Transit (LRT) system to serve more communities in Salt Lake County. Recent passage of a ¼ cent regional sales tax increase indicates broad public support for expansion and improvement of transit services throughout Salt Lake, Davis and Weber Counties. Expanded and improved bus service and extensions of the existing LRT system have been studied for several years by WFRC and UTA, and the West Valley City Transit Corridors has been identified as a high priority among five proposed LRT corridors previously studied by WFRC and UTA.

In March 2000, a Major Investment Study (MIS) was completed for a transportation corridor connecting West Valley City, Utah's second most populous, with Salt Lake City. The Locally Preferred Alternative (LPA) emerging from this MIS was an LRT extension extending from the existing North-South (TRAX) Light Rail line near Andy Avenue to the West Valley City center. The proposed alignment crosses Interstate Highways 15 and 215 utilizing existing structures and would connect several major trip generators in West Valley City with TRAX. The MIS identified significant and growing demand for transit service in this corridor and concluded that construction of LRT in this corridor held far more advantages than other alternatives. This concept enjoys strong support from local government. The Project Sponsors propose to advance the West Valley City Corridor through the EIS-PE phase of development in two contract phases. This first phase (DEIS) includes all work necessary to gain FTA approval to commence PE in the corridor. The current planning and project approval status for this corridor follows.

A copy of the “Type I MIS” (executive summary) is available for review by contacting Barry Banks, Project Manager, as previously presented, or on the Internet at www.wfrc.org.

III. Alternatives To Be Studied

A feasibility analysis was conducted as part of the South Lake County Transit Corridors Analysis. During scoping, the alternatives, findings and issues covered in the earlier studies will be reviewed and will be either affirmed or, if necessary, reconsidered in detail during the NEPA process.

The alternatives expected to be considered in detail in the EIS include:

• A “no-build” alternative: This alternative represents no change in transportation services or facilities in the corridor beyond already committed projects. Committed projects include those transit improvements defined in the transportation agencies' Long-Range Transportation Plans and Transit Development Plans for which funding has been committed.

• Transportation Systems Management Alternative: This alternative consists of low-cost infrastructure and bus transit improvements, Intelligent Transportation Systems (ITS) improvements, improvements in bus routes and operations, and other transportation systems management improvements.

• Rail Transit Alternatives: These alternatives represent the construction of a rail transit system using LRT technology. The eastern terminus of the project would be the North-South (TRAX) LRT Line at the 2100 South Station. Opportunities for interlining with the existing (TRAX) system will be explored for the LRT alternative. The rail alternatives would also include all facilities associated with the construction and operations of a rail transit line, including right of way, structures, track, stations, park-and-ride lots, storage and maintenance facilities, and the respective rail and bus operating plans.

IV. Probable Effects

The EIS will be prepared in accordance with NEPA and its implementing regulations including those of the Council on Environmental Quality (CEQ) implementing NEPA (40 CFR parts 1500-1508), and the FTA regulation on environmental procedures shared with the Federal Highway Administration (23 CFR part 771). The EIS will evaluate the social, economic, and environmental impacts of the alternatives. Primary concerns to be addressed include: safety at grade crossings, site contamination in railroad rights-of-way, property effects including business disruptions and relocation, impacts on local traffic and travel patterns, noise and vibration impacts, land use impacts, wetland impacts, and aesthetic/visual impacts. The cumulative impacts of the project together with other reasonably foreseeable actions and activities will be addressed.

V. FTA New Starts Procedures

Following public review of the Draft EIS, the UTA will request FTA approval to initiate Preliminary Engineering, in accordance with the FTA New Starts regulation (49 CFR part 611). FTA will consider the merits of the project at that time, in comparison with other projects across the nation competing for New Starts funding, and either recommend or not recommend that the preferred alternative advance into Preliminary Engineering, which would include the preparation of the Final EIS.

Issued on: December 12, 2001.
Lee O. Waddleton,
Regional Administrator, Federal Transit Administration.

[FR Doc. 01-31527 Filed 12-20-01; 8:45 am]

BILLING CODE 4910-57-M